DEPARTMENT OF TRANSPORTATION

Federal Aviation Administration

14 CFR Part 39

[Docket No. FAA-2019-0205; Product Identifier 2019-CE-001-AD; Amendment 39-19598; AD 2019-05-15]

RIN 2120-AA64

Airworthiness Directives; Pilatus Aircraft Ltd. Airplanes

AGENCY: Federal Aviation Administration (FAA), DOT.

ACTION: Final rule; request for comments.

SUMMARY: We are adopting a new airworthiness directive (AD) for certain Pilatus Aircraft Ltd. Model PC-7 airplanes. This AD results from mandatory continuing airworthiness information (MCAI) issued by the aviation authority of another country to identify and correct an unsafe condition on an aviation product. The MCAI describes the unsafe condition as chafed and burned wires located under panel F5. We are issuing this AD to require actions to address the unsafe condition on these products.

DATES: This AD is effective April 23, 2019.

The Director of the Federal Register approved the incorporation by reference of a certain publication listed in the AD as of April 23, 2019.

We must receive comments on this AD by May 20, 2019.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact Pilatus Aircraft Ltd., Customer Technical Support (MCC), P.O. Box 992, CH-6371 Stans, Switzerland; telephone: +41 (0)41 619 67 74; fax: +41 (0)41 619 67 73; email: Techsupport@pilatus-aircraft.com; internet: https://www.pilatus-aircraft.com/en. You may view this referenced service information at the FAA, Policy and Innovation, 901 Locust, Kansas City, Missouri 64106. For information on the availability of this material at the FAA, call (816) 329-4148. It is also available on the internet at http://www.regulations.gov by searching for locating Docket No. FAA-2019-0205.

Examining the AD Docket

You may examine the AD docket on the internet at http://www.regulations.gov by searching for and locating Docket No. FAA-2019-0205; or in person at Docket Operations between 9 a.m. and 5 p.m., Monday through Friday, except Federal holidays. The AD docket contains this AD, the regulatory evaluation, any comments received, and other information. The street address for Docket Operations (telephone (800) 647-5527) is in the ADDRESSES section. Comments will be available in the AD docket shortly after receipt.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Discussion

The Federal Office of Civil Aviation (FOCA), which is the aviation authority for Switzerland, has issued AD HB-2019-002, dated January 28, 2019 (referred to after this as “the MCAI”), to correct an unsafe condition for certain serial-numbered Pilatus Aircraft Ltd. Model PC-7 airplanes. The MCAI states:

During a scheduled inspection several chafed and burned wires located under panel F5 were found.

This condition, if not detected and corrected, could lead to smoke/fume in the cockpit and in a possible in-flight fire.

To address this potential unsafe condition, Pilatus Aircraft Ltd. issued the [service bulletin] SB to provide applicable inspection instructions.

For the reason described above, this [FOCA] Airworthiness Directive (AD) requires a visual inspection of the wires below the panel F5 and, depending on findings, accomplishment of applicable corrective action(s).

FOCA advises that although aircraft are manufactured with sufficient clearance between the wiring loom and the components installed below access panel F5, the wiring looms may be moved when components installed in the front instrument panel are removed and re-installed during maintenance. As a result, the wiring looms can come into contact with other equipment, causing chafing damage. You may examine the MCAI on the internet at http://www.regulations.gov by searching for and locating Docket No. FAA-2019-0205.

Related Service Information Under 1 CFR Part 51

Pilatus Aircraft Ltd. has issued Pilatus PC-7 Service Bulletin No. 24-008, Rev. No. 1, dated December 20, 2018. The service information contains procedures for inspecting the wires below access panel F5 for chafing and contact with the casings of the line replacement unit (LRU), panel edges, and environmental control system (ECS) hoses; replacing exposed bare wires; repairing chafed wires by installing a protective sleeve; inspecting the metal clips on the demist hoses to make sure they are not in contact with the wiring looms; and if necessary, adjusting the orientation of the metal clips to put their sharp edges away from the wiring loom. The service information also specifies reporting information to Pilatus Aircraft Ltd. so it can determine if follow-on action will be necessary. This service information is reasonably available because the interested parties have access to it through their normal course of business or by the means identified in the ADDRESSES section.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because chafing of electrical cables through the insulation could lead to arching, which may cause smoke or fumes in the cockpit and result in a possible in-flight fire. Therefore, we find good cause that notice and opportunity for prior public comment are impracticable. In addition, for the reason stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2019-0205; Product Identifier 2019-CE-001-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 18 products of U.S. registry. We also estimate that it would take about 3.5 work-hours per product to comply with the inspection requirement of this AD and 5 minutes to comply with the reporting requirement of this AD. The average labor rate is $85 per work-hour.

Based on these figures, we estimate the cost of the inspection and reporting requirement in this AD on U.S. operators to be $5,481, or $304.50 per product.

In addition, we estimate the labor and parts costs for the follow-on actions as necessary:

• Repairing chafed wires and installing a protective sleeve would take about 1.5 work-hours for a cost of $127.50 per product.

• Replacing burnt or bare wires would take about 4 work-hours and require parts costing approximately $2,000 for a cost of $2,340.

• Adjusting metal clips would take about .5 work-hour for a cost of $42.50.

We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-05-15 Pilatus Aircraft Ltd: Amendment 39-19598; Docket No. FAA-2019-0205; Product Identifier 2019-CE-001-AD.

(a) Effective Date

This AD becomes effective April 23, 2019.

(b) Affected ADs

None.

(c) Applicability

This AD applies to Pilatus Aircraft Ltd. Model PC-7 airplanes, manufacturer serial number (MSN) 101 through MSN 537, MSN 548 through MSN 609, and MSN 613 through MSN 618, certificated in any category.

(d) Subject

Air Transport Association of America (ATA) Code 24: Electric Power.

(e) Reason

This AD was prompted by mandatory continuing airworthiness information (MCAI) issued by the aviation authority of another country to identify and correct an unsafe condition on an aviation product. The MCAI describes the unsafe condition as chafed and burned wires located under panel F5. We are issuing this AD to detect and correct chafed and burned wires under panel F5, which could lead to smoke or fumes in the cockpit and result in a possible in-flight fire.

(f) Actions and Compliance

Unless already done, do the following actions in paragraphs (f)(1) through (2).

(1) Within the next 120 days after the effective date of this AD, do the following inspections:

(i) Visually inspect all wires below access panel F5 for signs of chafing and contact with the casings of the line replacement units (LRUs), panel edges, or environmental control system (ECS) hoses. If there is any chafing or contact, before further flight, do all corrective actions by following the Accomplishment Instructions, paragraphs 3.B.(2) through 3.B.(3), in Pilatus PC-7 Service Bulletin No. 24-008, Rev. No. 1, dated December 20, 2018.

(ii) Visually inspect the metal clips on the demist hoses for signs of contact with the wiring looms. If there is any contact, before further flight, adjust the clips by following the Accomplishment Instructions, paragraph 3.B.(5), in Pilatus PC-7 Service Bulletin No. 24-008, Rev. No. 1, dated December 20, 2018.

(2) Within 10 days after completing the inspections required in paragraph (f)(1)(i) and (ii) of this AD or within the next 10 days after the effective date of this AD, whichever occurs later, report the results of the inspections, both negative and positive, to Pilatus Aircraft Ltd. at the address listed in paragraph (i)(3) of this AD. On the report, include whether there were any chafed wires, casing contacts that needed to be relocated, or metal clip adjustments. You may use the Service Bulletin Evaluation Sheet in Pilatus PC-7 Service Bulletin No. 24-008, Rev. No. 1, dated December 20, 2018, for this purpose, but include the above findings of the inspection.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must instead be accomplished using a method approved by the Manager, Small Airplane Standards Branch, FAA, or the Federal Office of Civil Aviation (FOCA).

(3) Reporting Requirements: A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 5 minutes per response, including the time for reviewing instructions, searching existing data sources, gathering and maintaining the data needed, completing and reviewing the collection of information. All responses to this collection of information are mandatory as required by this AD; the nature and extent of confidentiality to be provided, if any. Send comments regarding this burden estimate or any other aspect of this collection of information, including suggestions for reducing this burden to: Information Collection Clearance Officer, Federal Aviation Administration, 10101 Hillwood Parkway, Fort Worth, TX 76177-1524.

(h) Related Information

Refer to MCAI FOCA AD HB-2019-002, dated January 28, 2019, for related information. You may examine the MCAI on the internet at http://www.regulations.gov by searching for and locating Docket No. FAA-2019-0205.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pilatus Aircraft Ltd. PC-7 Service Bulletin No. 24-008, Rev. No. 1, dated December 20, 2018.

(ii) [Reserved]

(3) For Pilatus Aircraft Ltd. service information identified in this AD, contact Pilatus Aircraft Ltd., Customer Technical Support (MCC), P.O. Box 992, CH-6371 Stans, Switzerland; phone: +41 (0)41 619 67 74; fax: +41 (0)41 619 67 73; email: Techsupport@pilatus-aircraft.com; internet: https://www.pilatus-aircraft.com/en.

(4) You may view this service information at the FAA, Policy and Innovation, 901 Locust, Kansas City, Missouri 64106. For information on the availability of this material at the FAA, call (816) 329-4148. It is also available on the internet at http://www.regulations.gov by searching for locating Docket No. FAA-2019-0205.

(5) You may view this service information that is incorporated by reference at the National Archives and Records Administration (NARA). For information on the availability of this material at NARA, call 202-741-6030, or go to: http://www.archives.gov/federal-register/cfr/ibr-locations.html.

Issued in Kansas City, Missouri, on March 25, 2019.
Melvin J. Johnson,
Aircraft Certification Service, Deputy Director, Policy and Innovation Division, AIR-601.

[FR Doc. 2019-06284 Filed 4-2-19; 8:45 am]

BILLING CODE 4910-13-P